DEPARTMENT OF ENERGY

Federal Energy Regulatory Commission

Combined Notice of Filings #1

Take notice that the Commission received the following electric corporate filings:

Docket Numbers: EC18-40-000.

Applicants: Public Service Company of Oklahoma, Southwestern Electric Power Company, States Edge Wind I LLC.

Description: Joint Application for Authorization of Transaction Under Section 203 of the Federal Power Act and Requests for Waivers of Filing Requirements, et al. of Public Service Company of Oklahoma, et al.

Filed Date: 12/21/17.

Accession Number: 20171221-5369.

Comments Due: 5 p.m. ET 1/11/18.

Take notice that the Commission received the following electric rate filings:

Docket Numbers: ER10-1257-007; ER10-1258-007.

Applicants: Wabash Valley Power Association, Inc., Wabash Valley Energy Marketing, Inc.

Description: Updated Triennial Market Power Analysis in the MISO Balancing Area Authority of Wabash Valley Power Association, Inc., et al.

Filed Date: 12/21/17.

Accession Number: 20171221-5372.

Comments Due: 5 p.m. ET 2/20/18.

Docket Numbers: ER10-1513-004; ER16-2290-001.

Applicants: Wolverine Power Supply Cooperative, Inc., Spartan Renewable Energy, Inc.

Description: Market Power Update in the MISO Balancing Area Authority of Wolverine Power Supply Cooperative, Inc., et al.

Filed Date: 12/21/17.

Accession Number: 20171221-5371.

Comments Due: 5 p.m. ET 2/20/18.

Docket Numbers: ER12-1946-008; ER10-1333-008; ER13-2387-003; ER15-190-005; ER17-543-002.

Applicants: Duke Energy Beckjord, LLC, Duke Energy Commercial Enterprises, Inc., Duke Energy Renewable Services, LLC, Duke Energy SAM, LLC, Duke Energy Florida, LLC.

Description: Triennial Market Power Analysis for the Central Region of Duke Energy Corporation MBR Sellers.

Filed Date: 12/21/17.

Accession Number: 20171221-5367.

Comments Due: 5 p.m. ET 2/20/18.

Docket Numbers: ER17-1192-003.

Applicants: Otter Tail Power Company.

Description: Compliance filing: Compliance Filing of Executed RS 168 East River to be effective 5/15/2017.

Filed Date: 12/21/17.

Accession Number: 20171221-5317.

Comments Due: 5 p.m. ET 1/11/18.

Docket Numbers: ER17-2029-003.

Applicants: Entergy Arkansas, Inc.

Description: Tariff Amendment: EAI-ESI ER17-2029 to be effective 8/1/2017.

Filed Date: 12/21/17.

Accession Number: 20171221-5316.

Comments Due: 5 p.m. ET 1/11/18.

Docket Numbers: ER17-2030-003.

Applicants: Entergy Louisiana, LLC.

Description: Tariff Amendment: ELL-ESI ER17-2030 to be effective 8/1/2017.

Filed Date: 12/21/17.

Accession Number: 20171221-5318.

Comments Due: 5 p.m. ET 1/11/18.

Docket Numbers: ER17-2031-003.

Applicants: Entergy Mississippi, Inc.

Description: Tariff Amendment: EMI-ESI ER17-2031 to be effective 8/1/2017.

Filed Date: 12/21/17.

Accession Number: 20171221-5319.

Comments Due: 5 p.m. ET 1/11/18.

Docket Numbers: ER17-2033-003.

Applicants: Entergy New Orleans, Inc.

Description: Tariff Amendment: ENO-ESI ER17-2033 to be effective 8/1/2017.

Filed Date: 12/21/17.

Accession Number: 20171221-5320.

Comments Due: 5 p.m. ET 1/11/18.

Docket Numbers: ER17-2034-003.

Applicants: Entergy Texas, Inc.

Description: Tariff Amendment: ETI-ESI ER17-2034 to be effective 8/1/2017.

Filed Date: 12/21/17.

Accession Number: 20171221-5321.

Comments Due: 5 p.m. ET 1/11/18.

Docket Numbers: ER18-88-001.

Applicants: PJM Interconnection, L.L.C.

Description: Tariff Amendment: Response to Deficiency Letter Issued November 22, 2017 in Docket No. ER18-88-000 to be effective 1/16/2018.

Filed Date: 12/22/17.

Accession Number: 20171222-5071.

Comments Due: 5 p.m. ET 1/12/18.

Docket Numbers: ER18-171-001.

Applicants: Southwest Power Pool, Inc.

Description: Tariff Amendment: 2236R9 Golden Spread Electric Cooperative, Inc. NITSA NOA Motion for Deferral to be effective 12/31/9998.

Filed Date: 12/22/17.

Accession Number: 20171222-5070.

Comments Due: 5 p.m. ET 1/12/18.

Docket Numbers: ER18-501-000.

Applicants: Trans Bay Cable LLC.

Description: § 205(d) Rate Filing: Annual TRBAA filing to be effective 1/1/2018.

Filed Date: 12/21/17.

Accession Number: 20171221-5252.

Comments Due: 5 p.m. ET 1/11/18.

Docket Numbers: ER18-502-000.

Applicants: Midcontinent Independent System Operator, Inc.

Description: § 205(d) Rate Filing: 2017-12-21_Network Resource Designation Improvement Filing to be effective 3/1/2018.

Filed Date: 12/21/17.

Accession Number: 20171221-5263.

Comments Due: 5 p.m. ET 1/11/18.

Docket Numbers: ER18-503-000.

Applicants: Pacific Gas and Electric Company.

Description: § 205(d) Rate Filing: Amendment to the Lathrop Irrigation District Engineering Agreement (SA 298) to be effective 12/22/2017.

Filed Date: 12/21/17.

Accession Number: 20171221-5309.

Comments Due: 5 p.m. ET 1/11/18.

Docket Numbers: ER18-504-000.

Applicants: San Diego Gas & Electric Company.

Description: Baseline eTariff Filing: SDGE 138KV SUBSTATION FACILITIES OPERATION AND MAINTENANCE AGREEMENT to be effective 12/22/2017.

Filed Date: 12/21/17.

Accession Number: 20171221-5312.

Comments Due: 5 p.m. ET 1/11/18.

Docket Numbers: ER18-505-000.

Applicants: Emera Maine.

Description: Initial rate filing: Penobscot Energy Recovery Co. LGIA to be effective 3/1/2018.

Filed Date: 12/21/17.

Accession Number: 20171221-5314.

Comments Due: 5 p.m. ET 1/11/18.

Docket Numbers: ER18-506-000.

Applicants: PJM Interconnection, L.L.C.

Description: § 205(d) Rate Filing: Original Service Agreement No. 4870; Queue No. AB1-069 (ISA) to be effective 12/4/2017.

Filed Date: 12/22/17.

Accession Number: 20171222-5006.

Comments Due: 5 p.m. ET 1/12/18.

Docket Numbers: ER18-507-000.

Applicants: PJM Interconnection, L.L.C.

Description: Compliance filing: Compliance filing per 12/15/2017 order in Docket No. EL17-84-000 to be effective 12/15/2017.

Filed Date: 12/22/17.

Accession Number: 20171222-5062.

Comments Due: 5 p.m. ET 1/12/18.

Docket Numbers: ER18-508-000.

Applicants: Southern California Edison Company.

Description: Tariff Cancellation: Notice of Cancellation DSA Wildomar Solar Project SA No. 939 to be effective 1/10/2018.

Filed Date: 12/22/17.

Accession Number: 20171222-5076.

Comments Due: 5 p.m. ET 1/12/18.

Docket Numbers: ER18-509-000.

Applicants: NorthWestern Corporation.

Description: § 205(d) Rate Filing: SA 31 17th Rev—Phillips 66 NITSA to be effective 3/1/2018.

Filed Date: 12/22/17.

Accession Number: 20171222-5094.

Comments Due: 5 p.m. ET 1/12/18.

Docket Numbers: ER18-510-000.

Applicants: Bluegrass Generation Company, L.L.C.

Description: Tariff Cancellation: Notice of Cancellation to be effective 12/23/2017.

Filed Date: 12/22/17.

Accession Number: 20171222-5136.

Comments Due: 5 p.m. ET 1/12/18.

Docket Numbers: ER18-511-000.

Applicants: DeSoto County Generating Company, LLC.

Description: Tariff Cancellation: Notice of Cancellation to be effective 12/23/2017.

Filed Date: 12/22/17.

Accession Number: 20171222-5137.

Comments Due: 5 p.m. ET 1/12/18.

Docket Numbers: ER18-512-000.

Applicants: Las Vegas Power Company, LLC.

Description: Tariff Cancellation: Notice of Cancellation to be effective 12/23/2017.

Filed Date: 12/22/17.

Accession Number: 20171222-5138.

Comments Due: 5 p.m. ET 1/12/18.

Docket Numbers: ER18-513-000.

Applicants: Renaissance Power, L.L.C.

Description: Tariff Cancellation: Notice of Cancellation to be effective 12/23/2017.

Filed Date: 12/22/17.

Accession Number: 20171222-5140.

Comments Due: 5 p.m. ET 1/12/18.

Docket Numbers: ER18-514-000.

Applicants: PJM Interconnection, L.L.C.

Description: § 205(d) Rate Filing: Amendment to Service Agreement Nos. 4425 and 4410, Queue Nos. Z2-076 and Z2-077 to be effective 2/9/2016.

Filed Date: 12/22/17.

Accession Number: 20171222-5152.

Comments Due: 5 p.m. ET 1/12/18.

Docket Numbers: ER18-515-000.

Applicants: NorthWestern Corporation.

Description: § 205(d) Rate Filing: SA 32 8th Rev—NITSA re Colstrip Steam Electric Station to be effective 3/1/2018.

Filed Date: 12/22/17.

Accession Number: 20171222-5169.

Comments Due: 5 p.m. ET 1/12/18.

Docket Numbers: ER18-516-000.

Applicants: NorthWestern Corporation.

Description: § 205(d) Rate Filing: SA 243 13th Rev—NITSA with CHS Inc. to be effective 3/1/2018.

Filed Date: 12/22/17.

Accession Number: 20171222-5174.

Comments Due: 5 p.m. ET 1/12/18.

Docket Numbers: ER18-517-000.

Applicants: NorthWestern Corporation.

Description: § 205(d) Rate Filing: SA 245 8th Rev—NITSA with Ash Grove Cement to be effective 3/1/2018.

Filed Date: 12/22/17.

Accession Number: 20171222-5175.

Comments Due: 5 p.m. ET 1/12/18.

Take notice that the Commission received the following PURPA 210(m)(3) filings:

Docket Numbers: QM18-8-000.

Applicants: Omaha Public Power District.

Description: Application of Omaha Public Power District to Terminate Mandatory Purchase Obligation Under the Public Utility Regulatory Policies Act of 1978.

Filed Date: 12/21/17.

Accession Number: 20171221-5384.

Comments Due: 5 p.m. ET 1/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2017.
Nathaniel J. Davis, Sr.,
Deputy Secretary.

[FR Doc. 2017-28318 Filed 1-2-18; 8:45 am]

BILLING CODE 6717-01-P